DEPARTMENT OF HOMELAND SECURITY

Federal Emergency Management Agency

[Docket ID FEMA-2019-0002; Internal Agency Docket No. FEMA-B-1956]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Buckeye, (19-09-0337P). | The Honorable Jackie A. Meck, Mayor, City of Buckeye, 530 East Monroe Avenue, Buckeye, AZ 85326. | Engineering Department, 530 East Monroe Avenue, Buckeye, AZ 85326. | https://msc.fema.gov/portal/advanceSearch. | Nov. 22, 2019 | 040039
Maricopa | Town of Fountain Hills, (18-09-2286P). | The Honorable Ginny Dickey, Mayor, Town of Fountain Hills, 16705 East Avenue of The Fountains, Fountain Hills, AZ 85268. | Town Hall, 16705 East Avenue of The Fountains, Fountain Hills, AZ 85268. | https://msc.fema.gov/portal/advanceSearch. | Nov. 29, 2019 | 040135
California:
Riverside | Agua Caliente Band of Cahuilla Indian Reservation, (18-09-1802P). | The Honorable Jeff L. Grubbe, Chairman, Agua Caliente Band of Cahuilla Indians, 5401 Dinah Shore Drive, Palm Springs, CA 92264. | Tribal Administrative Office, Planning and Natural Resources, 5401 Dinah Shore Drive, Palm Springs, CA 92264. | https://msc.fema.gov/portal/advanceSearch. | Nov. 29, 2019 | 060763
Riverside | City of Cathedral City, (18-09-1802P). | The Honorable Mark Carnevale, Mayor, City of Cathedral City, 68700 Avenida Lalo Guerrero, Cathedral City, CA 92234. | Engineering Department, 68-700 Avenida Lalo Guerrero, Cathedral City, CA 92234. | https://msc.fema.gov/portal/advanceSearch. | Nov. 29, 2019 | 060704
Riverside | City of Lake Elsinore, (19-09-0548P). | The Honorable Steve Manos, Mayor, City of Lake Elsinore, 130 South Main Street, Lake Elsinore, CA 92530. | Engineering Division, 130 South Main Street, Lake Elsinore, CA 92530. | https://msc.fema.gov/portal/advanceSearch. | Dec. 9, 2019 | 060636
Riverside | City of Palm Springs, (18-09-1802P). | The Honorable Robert Moon, Mayor, City of Palm Springs, 3200 East Tahquitz Canyon Way, Palm Springs, CA 92262. | Public Works and Engineering Department, 3200 East Tahquitz Canyon Way, Palm Springs, CA 92262. | https://msc.fema.gov/portal/advanceSearch. | Nov. 29, 2019 | 060257
Riverside | City of Rancho Mirage, (18-09-1802P). | The Honorable Iris Smotrich, Mayor, City of Rancho Mirage, 69825 Highway 111, Rancho Mirage, CA 92270. | City Hall, 69-825 Highway 111, Rancho Mirage, CA 92270. | https://msc.fema.gov/portal/advanceSearch. | Nov. 29, 2019 | 060259
Riverside | City of Wildomar, (19-09-0548P). | The Honorable Marsha Swanson, Mayor, City of Wildomar, 23873 Clinton Keith Road, Suite 201, Wildomar, CA 92595. | City Hall, 23873 Clinton Keith Road, Suite 201, Wildomar, CA 92595. | https://msc.fema.gov/portal/advanceSearch. | Dec. 9, 2019 | 060221
San Bernardino | City of San Bernardino, (18-09-1543P). | The Honorable John Valdivia, Mayor, City of San Bernardino, 290 North D Street, San Bernardino, CA 92401. | City Hall, 290 North D Street, San Bernardino, CA 92401. | https://msc.fema.gov/portal/advanceSearch. | Nov. 22, 2019 | 060281
San Luis Obispo | City of San Luis Obispo, (19-09-0399P). | The Honorable Heidi Harmon, Mayor, City of San Luis Obispo, 990 Palm Street, San Luis Obispo, CA 93401. | City Hall, 990 Palm Street, San Luis Obispo, CA 93401. | https://msc.fema.gov/portal/advanceSearch. | Nov. 14, 2019 | 060310
Santa Clara | City of San Jose, (19-09-1253P). | The Honorable Sam Liccardo, Mayor, City of San Jose, 200 East Santa Clara Street, 18th Floor, San Jose, CA 95113. | Department of Public Works, 200 East Santa Clara Street Tower, 5th Floor, San Jose, CA 95113. | https://msc.fema.gov/portal/advanceSearch. | Dec. 3, 2019 | 060349
Hawaii: Honolulu | City and County of Honolulu, (18-09-2230P). | The Honorable Kirk Caldwell, Mayor, City and County of Honolulu, 530 South King Street, Room 306, Honolulu, HI 96813. | Honolulu City and County Department of Planning and Permitting, 650 South King Street, Honolulu, HI 96813. | https://msc.fema.gov/portal/advanceSearch. | Nov. 25, 2019 | 150001
Idaho:
Ada | City of Meridian, (19-10-0285P). | The Honorable Tammy De Weerd, Mayor, City of Meridian, Meridian City Hall, 33 East Broadway Avenue, Suite 300, Meridian, ID 83642. | Public Works Department, 660 East Water Tower Lane, Meridian, ID 83642. | https://msc.fema.gov/portal/advanceSearch. | Nov. 22, 2019 | 160180
Latah | Unincorporated Areas of Latah County, (19-10-0327P). | Mr. Tom Lamar, Chairperson, Latah County Board of Commissioners, P.O. Box 8068, Moscow, ID 83843. | Latah County Courthouse, 522 South Adams Street, Moscow, ID 83843. | https://msc.fema.gov/portal/advanceSearch. | Dec. 5, 2019 | 160086
Minnesota: Dakota | Unincorporated Areas of Dakota County, (18-05-5246P). | Mr. Thomas Egan, Chair, Physical Development Committee, Dakota County Board of Commissioners, Dakota County Administration Center, 1590 Highway 55, Hastings, MN 55033. | Dakota County Administration Center, 1590 Highway 55, Hastings, MN 55033. | https://msc.fema.gov/portal/advanceSearch. | Nov. 22, 2019 | 270101
Nevada: Clark | City of North Las Vegas, (19-09-0818P). | The Honorable John J. Lee, Mayor, City of North Las Vegas, 2250 Las Vegas Boulevard North, North Las Vegas, NV 89030. | Public Works Department, 2200 Civic Center Drive, North Las Vegas, NV 89030. | https://msc.fema.gov/portal/advanceSearch. | Nov. 25, 2019 | 320007
New Mexico: San Juan | City of Farmington, (18-06-3856P). | The Honorable Nate Duckett, Mayor, City of Farmington, 800 Municipal Drive, Farmington, NM 87401. | Public Works Department, 805 Municipal Drive, Farmington, NM 87401. | https://msc.fema.gov/portal/advanceSearch. | Nov. 26, 2019 | 350067
Ohio:
Tuscarawas | City of New Philadelphia, (19-05-1610P). | The Honorable Joel Day, Mayor, City of New Philadelphia, 150 East High Avenue, New Philadelphia, OH 44663. | City Hall, 150 East High Avenue, New Philadelphia, OH 44663. | https://msc.fema.gov/portal/advanceSearch. | Nov. 29, 2019 | 390545
Tuscarawas | Unincorporated Areas of Tuscarawas County, (19-05-1610P). | The Honorable Chris Abbuhl, County Commissioner Tuscarawas County County Administration Offices, 125 East High Avenue, New Philadelphia, OH 44663. | Tuscarawas County Administration Offices, 125 East High Avenue, New Philadelphia, OH 44663. | https://msc.fema.gov/portal/advanceSearch. | Nov. 29, 2019 | 390782
Wisconsin: Ozaukee | City of Port Washington, (18-05-6323P). | The Honorable Martin Becker, Mayor, City of Port Washington, P.O. Box 307, Port Washington, WI 53074. | City Hall, 100 West Grand Avenue, Port Washington, WI 53074. | https://msc.fema.gov/portal/advanceSearch. | Dec. 6, 2019 | 550316

[FR Doc. 2019-18691 Filed 8-28-19; 8:45 am]

BILLING CODE 9110-12-P